NUCLEAR REGULATORY COMMISSION

[Docket Nos. 52-018 and 52-019]

Duke Energy Carolinas, LLC; Duke Energy Carolinas, LLC; William States Lee III Combined License Application; Notice of Intent To Conduct a Supplemental Scoping Process for the Supplement to the Environmental Report

AGENCY: Nuclear Regulatory Commission.

ACTION: Notice of Intent; Correction.

SUMMARY: This document corrects a notice appearing in the Federal Register on May 24, 2010 (75 FR 28822), that announces a supplemental scoping process for the environmental review of the William States Lee III Nuclear Station, Units 1 and 2 combined licenses application. This action is necessary to correct the project web address.

FOR FURTHER INFORMATION CONTACT: Ms. Sarah Lopas, Project Manager, Office of New Reactors via telephone at (301) 415-1147 or via e-mail to Sarah.Lopas@nrc.gov.

SUPPLEMENTARY INFORMATION: On page 28822, in the second column, nineteenth through twenty-first lines, the web address is corrected to read from “http://www.nrc.gov/reactors/new-licensing/col/lee.html” to “http://www.nrc.gov/reactors/new-reactors/col/lee.html”.

Dated at Rockville, Maryland, this 25th day of May 2010.
For the Nuclear Regulatory Commission.
Nilesh C. Chokshi,
Deputy Director, Division of Site and Environmental Reviews, Office of New Reactors.

[FR Doc. C1-2010-13012 Filed 5-28-10; 8:45 am]

BILLING CODE 7590-01-P